OVERSEAS PRIVATE INVESTMENT CORPORATION

Sunshine Act Meeting; Board of Directors Meeting

October 27, 2005.

TIME AND DATE: Thursday, October 27, 2005, 10 a.m. (Open Portion). 10:15 a.m. (Closed Portion).

PLACE: Offices of the Corporation, Twelfth Floor Board Room, 1100 New York Avenue, NW., Washington, DC.

STATUS: Meeting open to the Public from 10 a.m. to 10:15 a.m. closed portion will commence at 10:15 a.m. (approx.).

MATTERS TO BE CONSIDERED: 1. President's Report.

2. Testimonial.

3. Approval of September 15, 2005 Minutes (Open Portion).

FURTHER MATTERS TO BE CONSIDERED: (Closed to the Public 10:15 a.m.)

1. Insurance Project—Peru.

2. Approval of September 15, 2005 Minutes (Closed Portion).

3. Pending Major Projects.

4. Reports.

FOR FURTHER INFORMATION CONTACT: Information on the meeting may be obtained from Connie M. Downs at (202) 336-8438.

Dated: September 1, 2005.
Connie M. Downs,
Corporate Secretary, Overseas Private Investment Corporation.

[FR Doc. 05-20872 Filed 10-13-05; 3:46 am]

BILLING CODE 3210-01-M